DEPARTMENT OF AGRICULTURE

Rural Housing Service

Notice of Request for Collection of Public Information With the Use of a Survey

AGENCY: Rural Housing Service, USDA.

ACTION: Proposed collection; comments requested.

SUMMARY: In accordance with the Paperwork Reduction Act of 1995, this notice announces the Rural Housing Service's (RHS) intention to request clearance for continuation of information collection to measure the quality of loan servicing provided by the RHS, Centralized Servicing Center (CSC) in St. Louis, MO.

DATES: Comments on this notice must be received by September 25, 2006, to be assured of consideration.

FOR FURTHER INFORMATION CONTACT: Terrie Barton, Customer Service Branch Chief, Centralized Servicing Center, 1520 Market Street, Room 3622, St. Louis, Missouri 63103, phone (314) 206-2108, e-mail: Terrie.barton@stl.usda.gov.

SUPPLEMENTARY INFORMATION: Title: Rural Development—Customer Satisfaction Survey.

Type of Request: Extension of a currently approved information collection.

Abstract: RHS, provides insured loans to low- and moderate-income applicants located in rural geographic areas to assist them in obtaining decent, sanitary and safe dwellings. RHS currently processes loan originations through approximately 700 Field Offices. The CSC provides support to the Field Offices and is responsible for loan servicing functions for RHS program borrowers. The CSC was established to achieve a high level of customer service and operating efficiency. The CSC has established a fully integrated call center and is able to provide borrowers with convenient access to their loan account information.

To facilitate CSC's mission and in an effort to continuously improve its services, a survey has been developed that will measure the change in quality of service that borrower's receive when they contact the CSC. Two previous surveys have been completed under prior authorization. Respondents will only need to report information on a one-time basis.

The results of the survey will provide a general satisfaction level among borrowers throughout the nation. The data analysis will provide comparisons to prior surveys and reveal areas of increased satisfaction as well as areas in need of improvement. CSC's goal is to continuously improve program delivery, accessibility and overall customer service satisfaction. A follow up survey will be conducted in 18-24 months, but may or may not be sent to the same initial respondents. Additionally, in accordance with Government Performance and Results Act (GPRA), the survey will enable CSC to measure the results and overall effectiveness of customer services provided as well as implement action plans and measure improvements.

Estimate of Burden: Public reporting burden for this collection of information is estimated to average 10 minutes per response.

Respondents: Borrowers who have a Rural Housing Program services loan.

Estimated Number of Respondents: 6,000.

Estimated Number of Responses per Respondent: 1.

Estimated Number of Responses: 6,000.

Estimated Total Annual Burden on Respondents: 1,000 hours.

Copies of this information collection can be obtained from Cheryl Thompson, Regulations and Paperwork Management Branch, Support Services Division at (202) 692-0043.

Comments: Comments are invited on: (a) Whether the proposed collection of information is necessary for the proper performance of the functions of the agency, including whether the information will have practical utility; (b) the accuracy of agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Paperwork Management Branch, Support Services Division, U.S. Department of Agriculture, Rural Development, STOP 0742, 1400 Independence Ave., SW., Washington, DC 20250-0742. All responses to this notice will be summarized and included in the request for OMB approval. All comments will also become a matter of public record.

Dated: July 20, 2006.
Russell T. Davis,
Administrator, Rural Housing Service.

[FR Doc. E6-11946 Filed 7-25-06; 8:45 am]

BILLING CODE 3410-XV-P